DEPARTMENT OF THE INTERIOR

Bureau of Land Management

[LLWYD03000.L51100000.GN0000.LVEMK10CW580-WYW-184415]

Notice of Intent To Prepare an Environmental Impact Statement for the Proposed Lost Creek Uranium In-Situ Recovery Project Amendments, Sweetwater County, WY

AGENCY: Bureau of Land Management, Interior.

ACTION: Notice.

SUMMARY: In compliance with the National Environmental Policy Act of 1969 (NEPA), as amended, and the Federal Land Policy and Management Act of 1976, as amended, the Bureau of Land Management (BLM) Rawlins Field Office, Rawlins, Wyoming, intends to prepare an Environmental Impact Statement (EIS), and by this notice is announcing the beginning of the scoping process to solicit public comments and identify issues.

DATES: This notice initiates the public scoping process for the EIS. Comments on issues may be submitted in writing until 45 days after the date of publication in the Federal Register. The date(s) and location(s) of any scoping meetings will be announced at least 15 days in advance through local media, newspapers and the BLM Web site at: http://www.blm.gov/wy/st/en/info/NEPA/documents/rfo/lostcreek.html. In order to be included in the Draft EIS, all comments must be received prior to the close of the 45-day scoping period or 15 days after the last public meeting, whichever is later. We will provide additional opportunities for public participation upon publication of the Draft EIS.

ADDRESSES: You may submit comments related to the Lost Creek Uranium In-Situ Recovery Project Amendments by any of the following methods:

• Web site: http://www.blm.gov/wy/st/en/info/NEPA/documents/rfo/lostcreek.html.

• Email: Lost_Crk_Mine_WY@blm.gov.

• Fax: 307-328-4224.

• Mail: John Russell, Project Manager, BLM Rawlins Field Office, 1300 North Third Street, P.O. Box 2407, Rawlins, WY 82301-2407

• Documents pertinent to this proposal may be examined at the BLM Rawlins Field Office.

FOR FURTHER INFORMATION CONTACT: John Russell, Project Manager, telephone 307-328-4224; address Bureau of Land Management, Rawlins Field Office, 1300 N. Third Street, P.O. Box 2407, Rawlins, Wyoming 82301; email Lost_Crk_Mine_WY@blm.gov. Contact Mr. Russell to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, Lost Creek ISR, LLC, (LCI), a wholly owned subsidiary of Ur-Energy Inc., has requested to modify their Lost Creek Uranium In-Situ Recovery Project, 43 CFR 3809 Plan of Operations, approved October 5, 2012. The proposed plan amendments (Lost Creek East, KM Horizon, and secondary objectives received September 29, 2014) would expand uranium production by in-situ recovery methods and increase associated milling facilities, located in T. 25 N., R. 92 W.; and T. 25 N., R. 93 W., 6th P.M., Sweetwater County, Wyoming.

The Lost Creek East amendment would add approximately 5,750 acres to the existing Lost Creek Project area of approximately 4,254 acres for a new total project area of approximately 10,000 acres. LCI's proposed KM Horizon amendment would allow in-situ mining of uranium from the KM horizon, and increases the extent of mining in the existing HJ horizon within the existing project area, approved October 5, 2012. Development of the proposed amendments would result in approximately 650 acres of new surface disturbance including 5 new mine units, additional Class 1 deep disposal well pads, roads, pipelines, power lines, header houses, and mud pits. LCI also requested the BLM approve an increase of the overall production rate from 1.0 million pounds of uranium per year to 2.2 million pounds of uranium per year. This includes an increase of 0.2 million pounds of uranium per year from the facility well fields, plus an increase of 1 million pounds of uranium per year from the toll milling resin or slurry from other off-site facilities. The purpose of the public scoping process is to determine relevant issues that will influence the scope of the environmental analysis, including alternatives, and guide the process for developing the EIS. At present, the BLM has identified the following preliminary issues: (1) Potential impacts to range, water, recreation, wild horses, and wildlife resources (e.g., Greater Sage-Grouse, Wyoming Pocket Gopher); (2) the need to identify opportunities to apply mitigation hierarchy strategies for on-site, regional, and compensatory mitigation efforts; and, (3) the need to apply landscape-level conservation and management actions that are appropriate to the size of the project in order to achieve resource objectives.

The BLM will use NEPA public participation requirements to assist the agency in satisfying the public involvement requirements under section 106 of the National Historic Preservation Act (NHPA) (16 U.S.C. 470(f)) pursuant to 36 CFR 800.2(d)(3). The information about historic and cultural resources within the area potentially affected by the proposed plan amendments will assist the BLM in identifying and evaluating impacts to such resources in the context of both NEPA and section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed plan amendments that the BLM is evaluating, are invited to participate in the scoping process and, if eligible, may request or be requested by the BLM to participate in the development of the environmental analysis as a cooperating agency.

The Nuclear Regulatory Commission and the State of Wyoming will be cooperating agencies for this project. Others are pending. Before including your address, phone number, email address, or other personal identifying information in your comment, you should be aware that your entire comment—including your personal identifying information—may be made publicly available at any time. While you may ask us in your comment to withhold your personal identifying information from public review, we cannot guarantee that we will be able to do so.

Authority: 40 CFR 1501.7.

Larry Claypool,
Acting, State Director.

[FR Doc. 2015-23059 Filed 9-11-15; 8:45 am]

BILLING CODE 4310-22-P